DEPARTMENT OF HOMELAND SECURITY

U.S. Customs and Border Protection

Notice of Correction of Revoked Customs Broker Licenses

AGENCY: U.S. Customs and Border Protection, U.S. Department of Homeland Security.

ACTION: Reinstatement of Licenses.

SUMMARY: Pursuant to section 641 of the Tariff Act of 1930, as amended, (19 U.S.C. 1641) and Title 19 of the Code of Federal Regulations at section 111.30(d), the following Customs broker licenses were inadvertently revoked without prejudice on November 18, 2011. See Notice of Revocation of Customs Broker License, dated November 18, 2011 (76 FR 71584). The below identified licenses are active.

Name | License | Port name
Aldo Neyra, Jr | 17367 | Los Angeles.
Samantha Woo | 17389 | New York.
Gloria S. Oh | 04973 | New York.
Kenneth Carlstedt | 13049 | New York.
Michael Bonvissuto | 04793 | New York.
John G. Duffield | 05829 | New York.
Michael Russell | 22702 | New York.
Anthony J. Raffin | 24103 | Detroit.
Jeramy Caudill | 23068 | St. Louis.
Susan K. Richards | 10847 | Philadelphia.
Catherine Finn | 12339 | New Orleans.

Dated: April 23, 2012.
Richard DiNucci,
Deputy Assistant Commissioner, Office of International Trade.

[FR Doc. 2012-10445 Filed 4-30-12; 8:45 am]

BILLING CODE 9111-14-P